DEPARTMENT OF JUSTICE

Drug Enforcement Administration

[Docket No. DEA-1347]

Importer of Controlled Substances Application: Research Triangle Institute

AGENCY: Drug Enforcement Administration, Justice.

ACTION: Notice of application.

SUMMARY: Research Triangle Institute has applied to be registered as an importer of basic class(es) of controlled substance(s). Refer to SUPPLEMENTARY INFORMATION listed below for further drug information.

DATES: Registered bulk manufacturers of the affected basic class(es), and applicants therefore, may submit electronic comments on or objections to the issuance of the proposed registration on or before May 3, 2024. Such persons may also file a written request for a hearing on the application on or before May 3, 2024.

ADDRESSES: The Drug Enforcement Administration requires that all comments be submitted electronically through the Federal eRulemaking Portal, which provides the ability to type short comments directly into the comment field on the web page or attach a file for lengthier comments. Please go to https://www.regulations.gov and follow the online instructions at that site for submitting comments. Upon submission of your comment, you will receive a Comment Tracking Number. Please be aware that submitted comments are not instantaneously available for public view on https://www.regulations.gov. If you have received a Comment Tracking Number, your comment has been successfully submitted and there is no need to resubmit the same comment. All requests for a hearing must be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152. All requests for a hearing should also be sent to: Drug Enforcement Administration, Attn: Administrator, 8701 Morrissette Drive, Springfield, Virginia 22152.

SUPPLEMENTARY INFORMATION: In accordance with 21 CFR 1301.34(a), this is notice that on March 11, 2024, Research Triangle Institute, 3040 East Cornwallis Road, Hermann Building, Room 106, Research Triangle Park, North Carolina 27709-2194, applied to be registered as an importer of the following basic class(es) of controlled substance(s):

Controlled substance | Drug code | Schedule
Amineptine (7-[(10,11-dihydro-5Hdibenzo[a,d]cyclohepten-5-yl)amino]heptanoic acid) | 1219 | I
Mesocarb (N-phenyl-N′-(3-(1-phenylpropan-2-yl)-1,2,3- oxadiazol-3-ium-5-yl)carbamimidate) | 1227 | I
3-Fluoro-N-methylcathinone (3-FMC) | 1233 | I
Cathinone | 1235 | I
Methcathinone | 1237 | I
4-Fluoro-N-methylcathinone (4-FMC) 1238 I N | 1238 | I
Para-Methoxymethamphetamine (PMMA), 1-(4- methoxyphenyl)-N-methylpropan-2-amine | 1245 | I
Pentedrone (α-methylaminovalerophenone) | 1246 | I
Mephedrone (4-Methyl-N-methylcathinone) | 1248 | I
4-Methyl-N-ethylcathinone (4-MEC) | 1249 | I
Naphyrone | 1258 | I
3-methylmethcathinone (2-(methylamino)-1-(3- methylphenyl)propan-1-one) | 1259 | I
N-Ethylamphetamine | 1475 | I
Methiopropamine (N-methyl-1-(thiophen-2-yl)propan-2- amine) 1478 I N | 1478 | I
N,N-Dimethylamphetamine | 1480 | I
Fenethylline | 1503 | I
Aminorex | 1585 | I
4-Methylaminorex (cis isomer) | 1590 | I
4,4′-Dimethylaminorex (4,4′-DMAR; 4,5-dihydro-4- 1595 I N methyl-5-(4-methylphenyl)-2-oxazolamine; 4-methyl-5- (4-methylphenyl)-4,5-dihydro-1,3-oxazol-2-amine) | 1595 | I
Gamma Hydroxybutyric Acid | 2010 | I
Methaqualone | 2565 | I
Mecloqualone | 2572 | I
Etizolam (4-(2-chlorophenyl)-2-ethyl-9-methyl-6Hthieno[3,2-f][1,2,4]triazolo[4,3-a][1,4]diazepine | 2780 | I
Flualprazolam (8-chloro-6-(2-fluorophenyl)-1-methyl-4Hbenzo[f][1,2,4]triazolo[4,3-a][1,4]diazepine) | 2785 | I
Clonazolam (6-(2-chlorophenyl)-1-methyl-8-nitro-4Hbenzo[f][1,2,4]triazolo[4,3-a][1,4]diazepine | 2786 | I
Flubromazolam (8-bromo-6-(2-fluorophenyl)-1-methyl4H-benzo[f][1,2,4]triazolo[4,3-a][1,4]diazepine | 2788 | I
Diclazepam (7-chloro-5-(2-chloro-5-(2-chlorophenyl)-1- methyl-1,3-dihydro-2H-benzo[e][1,4]diazepin-2-one | 2789 | I
JWH-250 (1-Pentyl-3-(2-methoxyphenylacetyl) indole) | 6250 | I
SR-18 (Also known as RCS-8) (1-Cyclohexylethyl-3-(2-methoxyphenylacetyl) indole) | 7008 | I
ADB-FUBINACA (N-(1-amino-3,3-dimethyl-1-oxobutan-2-yl)-1-(4-fluorobenzyl)-1H-indazole-3-carboxamide) | 7010 | I
5-Fluoro-UR-144 and XLR11 [1-(5-Fluoro-pentyl)1H-indol-3-yl](2,2,3,3-tetramethylcyclopropyl)methanone | 7011 | I
AB-FUBINACA (N-(1-amino-3-methyl-1-oxobutan-2-yl)-1-(4-fluorobenzyl)-1H-indazole-3-carboxamide) | 7012 | I
FUB-144 (1-(4-fluorobenzyl)-1H-indol-3-yl)(2,2,3,3-tetramethylcyclopropyl)methanone) | 7014 | I
JWH-019 (1-Hexyl-3-(1-naphthoyl)indole) | 7019 | I
MDMB-FUBINACA (Methyl 2-(1-(4-fluorobenzyl)-1H-indazole-3-carboxamido)-3,3-dimethylbutanoate) | 7020 | I
FUB-AMB, MMB- FUBINACA, AMB-FUBINACA (2-(1-(4-fluorobenzyl)-1Hindazole-3-carboxamido)-3-methylbutanoate) | 7021 | I
AB-PINACA (N-(1-amino-3-methyl-1-oxobutan-2-yl)-1-pentyl-1H-indazole-3-carboxamide) | 7023 | I
THJ-2201 ([1-(5-fluoropentyl)-1H-indazol-3-yl](naphthalen-1-yl)methanone) | 7024 | I
5F-AB-PINACA (N-(1-amino-3-methyl-1-oxobutan-2-yl)-1-(5-fluropentyl)-1H-indazole-3-carboximide) | 7025 | I
ADB-BUTINACA (N-(1-amino-3,3-dimethyl-1-oxobutan 2-yl)-1-butyl-1H-indazole-3-carboxamide) | 7027 | I
AB-CHMINACA (N-(1-amino-3-methyl-1-oxobutan-2-yl)-1-(cyclohexylmethyl)-1H-indazole-3-carboxamide) | 7031 | I
MAB-CHMINACA (N-(1-amino-3,3dimethyl-1-oxobutan-2-yl)-1-(cyclohexylmethyl)-1H-indazole-3-carboxamide) | 7032 | I
5F-AMB (Methyl 2-(1-(5-fluoropentyl)-1H-indazole-3-carboxamido)-3-methylbutanoate) | 7033 | I
5F-ADB, 5F-MDMB-PINACA (Methyl 2-(1-(5-fluoropentyl)-1H-indazole-3-carboxamido)-3,3-dimethylbutanoate) | 7034 | I
ADB-PINACA (N-(1-amino-3,3-dimethyl-1-oxobutan-2-yl)-1-pentyl-1H-indazole-3-carboxamide) | 7035 | I
5F-EDMB-PINACA (ethyl 2-(1-(5-fluoropentyl)-1H-indazole-3-carboxamido)-3,3-dimethylbutanoate) | 7036 | I
5F-MDMB-PICA (methyl 2-(1-(5-fluoropentyl)-1H-indole-3-carboxamido)-3,3-dimethylbutanoate) | 7041 | I
MDMB-CHMICA, MMB-CHMINACA (Methyl 2-(1-(cyclohexylmethyl)-1H-indole-3-carboxamido)-3,3-dimethylbutanoate) | 7042 | I
4F-MDMB-BINACA (4F-MDMB-BUTINACA or methyl 2- (1-(4-fluorobutyl)-1H-indazole-3-carboxamido)-3,3- dimethylbutanoate) 7043 I N | 7043 | I
MMB-CHMICA, AMB-CHMICA (methyl 2-(1-(cyclohexylmethyl)-1H-indole-3-carboxamido)-3-methylbutanoate) | 7044 | I
FUB-AKB48, FUB-APINACA, AKB48 N-(4-FLUOROBENZYL) (N-(adamantan-1-yl)-1-(4-fluorobenzyl)-1H-indazole-3-carboximide) | 7047 | I
APINACA and AKB48 (N-(1-Adamantyl)-1-pentyl-1H-indazole-3-carboxamide) | 7048 | I
5F-APINACA, 5F-AKB48 (N-(adamantan-1-yl)-1-(5-fluoropentyl)-1H-indazole-3-carboxamide) | 7049 | I
JWH-081 (1-Pentyl-3-(1-(4-methoxynaphthoyl) indole) | 7081 | I
5F-CUMYL-PINACA, 5GT-25 (1-(5-fluoropentyl)-N-(2-phenylpropan-2-yl)-1H-indazole-3-carboxamide) | 7083 | I
5F-CUMYL-P7AICA (1-(5-fluoropentyl)-N-(2-phenylpropan-2-yl)-1H-pyrrolo[2,3-b]pyridine-3-carboxamide) | 7085 | I
4-CN-CUML-BUTINACA, 4-cyano-CUMYL-BUTINACA, 4-CN-CUMYL BINACA, CUMYL-4CN-BINACA, SGT-78 (1-(4-cyanobutyl)-N-(2-phenylpropan-2-yl)-1H-indazole-3-carboxamide) | 7089 | I
MDMB-4en-PINACA (methyl 3,3-dimethyl-2-(1-(pent-4- en-1-yl)-1H-indazole-3-carboxamido)butanoate) 7090 I N MDMB-4en-PINACA | 7090 | I
4F-MDMB-BUTICA (methyl 2-[[1-(4-fluorobutyl)indole-3- carbonyl]amino]-3,3-dimethyl-butanoate | 7091 | I
ADB-4en-PINACA (N-(1-amino-3,3-dimethyl-1- oxobutan-2-yl)-1-(pent-4-en-1-yl)-1H-indazole-3- carboxamide) | 7092 | I
CUMYL-PEGACLONE (5-pentyl-2-(2-phenylpropan-2- yl)pyrido[4,3-b]indol-1-one) | 7093 | I
5F-EDMB-PICA (ethyl 2-[[1-(5-fluorophentyl)indole-3- carbonyl]amino]-3,3-dimethyl-butanoate | 7094 | I
MMB-FUBICA (methyl 2-(1-(4-fluorobenzyl)-1H-indole3-carboxamido)-3-methyl butanoate | 7095 | I
SR-19 (Also known as RCS-4) (1-Pentyl-3-[(4-methoxy)-benzoyl] indole) | 7104 | I
JWH-018 (also known as AM678) (1-Pentyl-3-(1-naphthoyl)indole) | 7118 | I
JWH-122 (1-Pentyl-3-(4-methyl-1-naphthoyl) indole) | 7122 | I
UR-144 (1-Pentyl-1H-indol-3-yl)(2,2,3,3-tetramethylcyclopropyl)methanone | 7144 | I
JWH-073 (1-Butyl-3-(1-naphthoyl)indole) | 7173 | I
JWH-200 (1-[2-(4-Morpholinyl)ethyl]-3-(1-naphthoyl)indole) | 7200 | I
AM2201 (1-(5-Fluoropentyl)-3-(1-naphthoyl) indole) | 7201 | I
JWH-203 (1-Pentyl-3-(2-chlorophenylacetyl) indole) | 7203 | I
NM2201, CBL2201 (Naphthalen-1-yl 1-(5-fluoropentyl)-1H-indole-3-carboxylate | 7221 | I
PB-22 (Quinolin-8-yl 1-pentyl-1H-indole-3-carboxylate) | 7222 | I
5F-PB-22 (Quinolin-8-yl 1-(5-fluoropentyl)-1H-indole-3-carboxylate) | 7225 | I
4-methyl-alpha-ethylaminopentiophenone (4-MEAP) 7245 I N 4-MEAP | 7245 | I
N-ethylhexedrone 7246 I N | 7246 | I
Alpha-ethyltryptamine | 7249 | I
Ibogaine | 7260 | I
2-(ethylamino)-2-(3-methoxyphenyl)cyclohexan-1-one (methoxetamine) | 7286 | I
CP-47,497 (5-(1,1-Dimethylheptyl)-2-[(1R,3S)-3-hydroxycyclohexyl-phenol) | 7297 | I
CP-47,497 C8 Homologue (5-(1,1-Dimethyloctyl)-2-[(1R,3S)3-hydroxycyclohexyl-phenol) | 7298 | I
Lysergic acid diethylamide | 7315 | I
2C-T-7 (2,5-Dimethoxy-4-(n)-propylthiophenethylamine | 7348 | I
Marihuana Extract | 7350 | I
Parahexyl | 7374 | I
Mescaline | 7381 | I
2C-T-2 (2-(4-Ethylthio-2,5-dimethoxyphenyl) ethanamine ) | 7385 | I
3,4,5-Trimethoxyamphetamine | 7390 | I
4-Bromo-2,5-dimethoxyamphetamine | 7391 | I
4-Bromo-2,5-dimethoxyphenethylamine | 7392 | I
4-Methyl-2,5-dimethoxyamphetamine | 7395 | I
2,5-Dimethoxyamphetamine | 7396 | I
JWH-398 (1-Pentyl-3-(4-chloro-1-naphthoyl) indole) | 7398 | I
2,5-Dimethoxy-4-ethylamphetamine | 7399 | I
3,4-Methylenedioxyamphetamine | 7400 | I
5-Methoxy-3,4-methylenedioxyamphetamine | 7401 | I
N-Hydroxy-3,4-methylenedioxyamphetamine | 7402 | I
3,4-Methylenedioxy-N-ethylamphetamine | 7404 | I
3,4-Methylenedioxymethamphetamine | 7405 | I
4-Methoxyamphetamine | 7411 | I
Peyote | 7415 | I
5-Methoxy-N-N-dimethyltryptamine | 7431 | I
Alpha-methyltryptamine | 7432 | I
Bufotenine | 7433 | I
Diethyltryptamine | 7434 | I
Dimethyltryptamine | 7435 | I
Psilocybin | 7437 | I
Psilocyn | 7438 | I
5-Methoxy-N,N-diisopropyltryptamine | 7439 | I
4-chloro-alpha-pyrrolidinovalerophenone (4-chloro-aPV | 7443 | I
4′-methyl-alpha-pyrrolidinohexiophenone (MPHP | 7446 | I
N-Ethyl-1-phenylcyclohexylamine | 7455 | I
1-(1-Phenylcyclohexyl)pyrrolidine | 7458 | I
1-[1-(2-Thienyl)cyclohexyl]piperidine | 7470 | I
1-[1-(2-Thienyl)cyclohexyl]pyrrolidine | 7473 | I
N-Ethyl-3-piperidyl benzilate | 7482 | I
N-Methyl-3-piperidyl benzilate | 7484 | I
N-Benzylpiperazine | 7493 | I
4-MePPP (4-Methyl-alphapyrrolidinopropiophenone) | 7498 | I
2C-D (2-(2,5-Dimethoxy-4-methylphenyl) ethanamine) | 7508 | I
2C-E (2-(2,5-Dimethoxy-4-ethylphenyl) ethanamine) | 7509 | I
2C-H 2-(2,5-Dimethoxyphenyl) ethanamine) | 7517 | I
2C-I 2-(4-iodo-2,5-dimethoxyphenyl) ethanamine) | 7518 | I
2C-C 2-(4-Chloro-2,5-dimethoxyphenyl) ethanamine) | 7519 | I
2C-N (2-(2,5-Dimethoxy-4-nitro-phenyl) ethanamine) | 7521 | I
2C-P (2-(2,5-Dimethoxy-4-(n)-propylphenyl) ethanamine) | 7524 | I
2C-T-4 (2-(4-Isopropylthio)-2,5-dimethoxyphenyl) ethanamine) | 7532 | I
MDPV (3,4-Methylenedioxypyrovalerone) | 7535 | I
25B-NBOMe (2-(4-bromo-2,5-dimethoxyphenyl)-N-(2-methoxybenzyl) ethanamine) | 7536 | I
25C-NBOMe (2-(4-chloro-2,5-dimethoxyphenyl)-N-(2-methoxybenzyl) ethanamine) | 7537 | I
25I-NBOMe (2-(4-iodo-2,5-dimethoxyphenyl)-N-(2-methoxybenzyl) ethanamine) | 7538 | I
Methylone (3,4-Methylenedioxy-N-methylcathinone) | 7540 | I
Butylone | 7541 | I
Pentylone | 7542 | I
N-Ethypentylone, ephylone (1-(1,3-benzodioxol-5-yl)-2-(ethylamino)-pentan-1-one) | 7543 | I
alpha-pyrrolidinohexanophenone (a-PHP) | 7544 | I
alpha-pyrrolidinopentiophenone (α-PVP) | 7545 | I
alpha-pyrrolidinobutiophenone (α-PBP) | 7546 | I
Ethylone | 7547 | I
alpha-pyrrolidinoheptaphenone (PV8) | 7548 | I
Eutylone | 7549 | I
α-PiHP (4-methyl-1-phenyl-2-(pyrrolidin-1-yl)pentan-1- one) | 7551 | I
AM-694 (1-(5-Fluoropentyl)-3-(2-iodobenzoyl) indole) | 7694 | I
Acetyldihydrocodeine | 9051 | I
Benzylmorphine | 9052 | I
Codeine-N-oxide | 9053 | I
Cyprenorphine | 9054 | I
Desomorphine | 9055 | I
Etorphine (except HCl) | 9056 | I
Codeine methylbromide | 9070 | I
Brorphine (1-(1-(1-(4-bromophenyl)ethyl)piperidin-4-4l)1,3-dihydro-2H-benzo[d]imidazol-2-one) | 9098 | I
Dihydromorphine | 9145 | I
Difenoxin | 9168 | I
Heroin | 9200 | I
Hydromorphinol | 9301 | I
Methyldesorphine | 9302 | I
Methyldihydromorphine | 9304 | I
Morphine methylbromide | 9305 | I
Morphine methylsulfonate | 9306 | I
Morphine-N-oxide | 9307 | I
Myrophine | 9308 | I
Nicocodeine | 9309 | I
Nicomorphine | 9312 | I
Normorphine | 9313 | I
Pholcodine | 9314 | I
Thebacon | 9315 | I
Acetorphine | 9319 | I
Drotebanol | 9335 | I
U-47700 (3,4-dichloro-N-[2-(dimethylamino)cyclohexyl]-N-methylbenzamide) | 9547 | I
AH-7921 (3,4-dichloro-N-[(1-dimethylamino)cyclohexylmethyl]benzamide)) | 9551 | I
MT-45 (1-cyclohexyl-4-(1,2-diphenylethyl)piperazine)) | 9560 | I
Acetylmethadol | 9601 | I
Allylprodine | 9602 | I
Alphacetylmethadol except levo-alphacetylmethadol | 9603 | I
Alphameprodine | 9604 | I
Alphamethadol | 9605 | I
Benzethidine | 9606 | I
Betacetylmethadol | 9607 | I
Betameprodine | 9608 | I
Betamethadol | 9609 | I
Betaprodine | 9611 | I
Clonitazene | 9612 | I
Dextromoramide | 9613 | I
Isotonotazene (N,N-diethyl-2-(2-(4 isopropoxybenzyl)-5-nitro-1H-benzimidazol-1-yl)ethan-1-amine) | 9614 | I
Diampromide | 9615 | I
Diethylthiambutene | 9616 | I
Dimenoxadol | 9617 | I
Dimepheptanol | 9618 | I
Dimethylthiambutene | 9619 | I
Dioxaphetyl butyrate | 9621 | I
Dipipanone | 9622 | I
Ethylmethylthiambutene | 9623 | I
Etonitazene | 9624 | I
Etoxeridine | 9625 | I
Furethidine | 9626 | I
Hydroxypethidine | 9627 | I
Ketobemidone | 9628 | I
Levomoramide | 9629 | I
Levophenacylmorphan | 9631 | I
Morpheridine | 9632 | I
Noracymethadol | 9633 | I
Norlevorphanol | 9634 | I
Normethadone | 9635 | I
Norpipanone | 9636 | I
Phenadoxone | 9637 | I
Phenampromide | 9638 | I
Phenoperidine | 9641 | I
Piritramide | 9642 | I
Proheptazine | 9643 | I
Properidine | 9644 | I
Racemoramide | 9645 | I
Trimeperidine | 9646 | I
Phenomorphan | 9647 | I
Propiram | 9649 | I
1-Methyl-4-phenyl-4-propionoxypiperidine | 9661 | I
1-(2-Phenylethyl)-4-phenyl-4-acetoxypiperidine | 9663 | I
Tilidine | 9750 | I
Butonitazene (2-(2-(4-butoxybenzyl)-5-nitro-1Hbenzimidazol-1-yl)-N,N-diethylethan-1-amine) | 9751 | I
lunitazene (N,N-diethyl-2-(2-(4-fluorobenzyl)-5- nitro1H-benzimidazol-1-yl)ethan-1- amine) | 9756 | I
Metonitazene (N,N-diethyl-2-(2-(4- methoxybenzyl)-5- nitro-1Hbenzimidazol-1-yl)ethan-1-amine | 9757 | I
N-pyrrolidino etonitazene; etonitazepyne (2-(4-ethoxybenzyl)-5-nitro-1-(2- (pyrrolidin-1-yl)ethyl)- 1Hbenzimidazole) | 9758 | I
Protonitazene (N,N-diethyl-2-(5-nitro-2-(4- propoxybenzyl)-1H-benzimidazol-1- yl)ethan-1-amine) | 9759 | I
Metodesnitazene (N,N-diethyl-2-(2-(4- methoxybenzyl)- 1H-benzimidazol-1- yl)ethan-1-amine) | 9764 | I
Etodesnitazene; etazene (2-(2-(4-ethoxybenzyl)- 1Hbenzimidazol-1-yl)-N,N-diethylethan-1- amine) | 9765 | I
Acryl fentanyl (N-(1-phenethylpiperidin-4-yl)-N-phenylacrylamide) | 9811 | I
Para-Fluorofentanyl | 9812 | I
3-Methylfentanyl | 9813 | I
Alpha-methylfentanyl | 9814 | I
Acetyl-alpha-methylfentanyl | 9815 | I
N-(2-fluorophenyl)-N-(1-phenethylpiperidin-4-yl)propionamide | 9816 | I
Para-Methylfentanyl (N-(4-methylphenyl)-N-(1- phenethylpiperidin-4-yl)propionamide; also known as 4- methylfentanyl) | 9817 | I
4′-Methyl acetyl fentanyl (N-(1-(4- methylphenethyl)piperidin-4-yl)-N-phenylacetamide) | 9819 | I
ortho-Methyl methoxyacetyl fentanyl (2-methoxy-N-(2- methylphenyl)-N-(1-phenethylpiperidin-4-yl)acetamide) | 9820 | I
Acetyl Fentanyl (N-(1-phenethylpiperidin-4-yl)-N-phenylacetamide) | 9821 | I
Butyryl Fentanyl | 9822 | I
Para-fluorobutyryl fentanyl | 9823 | I
4-Fluoroisobutyryl fentanyl (N-(4-fluorophenyl)-N-(1-phenethylpiperidin-4-yl)isobutyramide) | 9824 | I
2-methoxy-N-(1-phenethylpiperidin-4-yl)-N-phenylacetamide | 9825 | I
Para-chloroisobutyryl fentanyl | 9826 | I
Isobutyryl fentanyl | 9827 | I
Beta-hydroxyfentanyl | 9830 | I
Beta-hydroxy-3-methylfentanyl | 9831 | I
Alpha-methylthiofentanyl | 9832 | I
3-Methylthiofentanyl | 9833 | I
Furanyl fentanyl (N-(1-phenethylpiperidin-4-yl)-N-phenylfuran-2-carboxamide) | 9834 | I
Thiofentanyl | 9835 | I
Beta-hydroxythiofentanyl | 9836 | I
Para-methoxybutyryl fentanyl | 9837 | I
Ocfentanil | 9838 | I
Thiofuranyl fentanyl (N-(1-phenethylpiperidin-4-yl)-Nphenylthiophene-2-carboxamide; also known as 2- thiofuranyl fentanyl; thiophene fentanyl) | 9839 | I
Valeryl fentanyl | 9840 | I
Phenyl fentanyl (N-(1-phenethylpiperidin-4-yl)-Nphenylbenzamide; also known as benzoyl fentanyl) | 9841 | I
beta′-Phenyl fentanyl (N-(1-phenethylpiperidin-4-yl)-N,3- diphenylpropanamide; also known as β′-phenyl fentanyl; 3-phenylpropanoyl fentanyl) | 9842 | I
N-(1-phenethylpiperidin-4-yl)-N-phenyltetrahydrofuran-2-carboxamide | 9843 | I
Crotonyl fentanyl ((E-N-(1-phenethylpiperidin-4-yl)-N-phenylbut-2-enamide) | 9844 | I
Cyclopropyl Fentanyl | 9845 | I
ortho-Fluorobutyryl fentanyl (N-(2-fluorophenyl)-N-(1- phenethylpiperidin-4-yl)butyramide; also known as 2- fluorobutyryl fentanyl) | 9846 | I
Cyclopentyl fentanyl | 9847 | I
ortho-Methyl acetylfentanyl (N-(2-methylphenyl)-N-(1- phenethylpiperidin-4-yl)acetamide; also known as 2- methyl acetylfentanyl) | 9848 | I
Fentanyl related-compounds as defined in 21 CFR 1308.11(h) | 9850 | I
Fentanyl carbamate (ethyl (1-phenethylpiperidin-4- yl)(phenyl)carbamate) | 9851 | I
ortho-Fluoroacryl fentanyl (N-(2-fluorophenyl)-N-(1- phenethylpiperidin-4-yl)acrylamide) | 9852 | I
ortho-Fluoroisobutyryl fentanyl (N-(2-fluorophenyl)-N-(1- phenethylpiperidin-4-yl)isobutyramide) | 9853 | I
Para-Fluoro furanyl fentanyl (N-(4-fluorophenyl)-N-(1- phenethylpiperidin-4-yl)furan-2-carboxamide) | 9854 | I
2′-Fluoro ortho-fluorofentanyl (N-(1-(2- fluorophenethyl)piperidin-4-yl)-N-(2- fluorophenyl)propionamide; also known as 2′-fluoro 2- fluorofentanyl) | 9855 | I
beta-Methyl fentanyl (N-phenyl-N-(1-(2- phenylpropyl)piperidin-4-yl)propionamide; also known as β-methyl fentanyl) | 9856 | I
meta-Fluorofentanyl (N-(3-fluorophenyl)-N-(1- phenethylpiperidin-4-yl)propionamide) | 9857 | I
meta-Fluoroisobutylryl fentanyl (N-(3-fluorophenyl)-N-(1- phenethylpiperidin-4-yl)isobutyramide) | 9858 | I
para-Methoxyfuranyl fentanyl (N-(4-methoxyphenyl)-N- (1-phenethylpiperidin-4-yl)furan-2-carboxamide) | 9859 | I
3-Furanyl fentanyl (N-(1-phenethylpiperidin-4-yl)-Nphenylfuran-3-carboxamide) | 9860 | I
2′,5′-Dimethoxyfentanyl (N-(1-(2,5- dimethoxyphenethyl)piperidin-4-yl)-N-phenylpropionamide) | 9861 | I
Isovaleryl fentanyl (3-methyl-N-(1-phenethylpiperidin-4- yl)-N-phenylbutanamide) | 9862 | I
ortho-Fluorofuranyl fentanyl (N-(2-fluorophenyl)-N-(1- phenethylpiperidin-4-yl)furan-2-carboxamide) | 9863 | I
alpha′Methyl butyryl fentanyl (2-methyl-N-(1- phenethylpiperidin-4-yl)-N-phenylbutanamide) | 9864 | I
para-Methylcyclopropylfentanyl (N-(4-methylphenyl)-N- (1-phenethylpiperidin-4-yl)cyclopropanecarboxamide) | 9865 | I
Zipeprol (1-methoxy-3[-4-(2-methoxy-2- phenylethyl)piperazin-1-yl]-1-phenylpropan-2-ol) | 9873 | I
Phenmetrazine | 1631 | II
Methylphenidate | 1724 | II
Amobarbital | 2125 | II
Pentobarbital | 2270 | II
Secobarbital | 2315 | II
Glutethimide | 2550 | II
Dronabinol in an oral solution in a drug product approved for marketing by the U.S. Food and Drug Administration | 7365 | II
Nabilone | 7379 | II
1-Phenylcyclohexylamine | 7460 | II
Phencyclidine | 7471 | II
ANPP (4-Anilino-N-phenethyl-4-piperidine) | 8333 | II
Norfentanyl (N-phenyl-N-(piperidin-4-yl) propionamide) | 8366 | II
Phenylacetone | 8501 | II
1-Piperidinocyclohexanecarbonitrile | 8603 | II
Alphaprodine | 9010 | II
Anileridine | 9020 | II
Coca Leaves | 9040 | II
Cocaine | 9041 | II
Etorphine HCl | 9059 | II
Dihydrocodeine | 9120 | II
Diphenoxylate | 9170 | II
Ecgonine | 9180 | II
Ethylmorphine | 9190 | II
Levomethorphan | 9210 | II
Levorphanol | 9220 | II
Isomethadone | 9226 | II
Meperidine | 9230 | II
Meperidine intermediate-A | 9232 | II
Meperidine intermediate-B | 9233 | II
Meperidine intermediate-C | 9234 | II
Metazocine | 9240 | II
Oliceridine (N-[(3-methoxythiophen-2yl)methyl] ({2-[9r)-9-(pyridin-2-yl)-6-oxaspiro[4.5] decan-9-yl] ethyl {time})amine fumarate) | 9245 | II
Metopon | 9260 | II
Dextropropoxyphene, bulk (non-dosage forms) | 9273 | II
Dihydroetorphine | 9334 | II
Opium tincture | 9630 | II
Opium, powdered | 9639 | II
Opium, granulated | 9640 | II
Noroxymorphone | 9668 | II
Phenazocine | 9715 | II
Thiafentanil | 9729 | II
Piminodine | 9730 | II
Racemethorphan | 9732 | II
Racemorphan | 9733 | II
Alfentanil | 9737 | II
Remifentanil | 9739 | II
Sufentanil | 9740 | II
Carfentanil | 9743 | II
Tapentadol | 9780 | II
Bezitramide | 9800 | II
Moramide-intermediate | 9802 | II

The company plans to import small quantities of the listed controlled substances to support research activities funded by the National Institute on Drug Abuse. No other activities for these drug codes are authorized for this registration.

Approval of permit applications will occur only when the registrant's business activity is consistent with what is authorized under 21 U.S.C. 952(a)(2). Authorization will not extend to the import of Food and Drug Administration-approved or non-approved finished dosage forms for commercial sale.

Marsha Ikner,
Acting Deputy Assistant Administrator.

[FR Doc. 2024-07037 Filed 4-2-24; 8:45 am]

BILLING CODE P